DEPARTMENT OF ENERGY

Federal Energy Regulatory Commission

[Docket No. EC03-19-000, et al.]

El Paso Merchant Energy, et al.; Electric Rate and Corporate Filings

November 26, 2002.

The following filings have been made with the Commission. The filings are listed in ascending order within each docket classification.

1. El Paso Merchant Energy North America Company, Kenneth M. Pollock and Connie J. Pollock Rado, Mt. Carmel Cogen, Inc.

[Docket No. EC03-19-000]

Take notice that on November 21, 2002, El Paso Merchant Energy North America Company (EPME), Kenneth M. Pollock and Connie J. Pollock Rado (the Pollocks), and Mt. Carmel Cogen, Inc. (Mt. Carmel) (jointly Applicants) filed with the Federal Energy Regulatory Commission (Commission) an application pursuant to section 203 of the Federal Power Act for authorization to effectuate a transfer of all shares of stock in Mt. Carmel (which constitutes an indirect change in control over Mt. Carmel's jurisdictional facilities) from EPME to the Pollocks. Mt. Carmel owns and operates a 45-MW generating facility in Mount Carmel, Pennsylvania. Applicants also request expedited consideration of this application and privileged treatment for certain exhibits pursuant to 18 CFR 33.9 and 388.112.

Comment Date: December 12, 2002.

2. Prairie State Generating Company, LLC

[Docket No. EG02-21-000]

Take notice that on November 21, 2002, Prairie State Generating Company, LLC (Prairie State) with a principle place of business at 701 Market Street, Suite 900, St. Louis, MO 63101 filed with the Federal Energy Regulatory Commission (Commission) an application for determination of exempt wholesale generator status pursuant to part 365 of the Commission regulations.

Prairie State states that it is a wholly owned subsidiary of Peabody Energy Corporation, a private-sector coal company. Prairie State filed its application in conjunction with the proposed construction of two 750 MW mine-mouth pulverized coal generating units to be located in Washington County, Illinois.

Comment Date: December 16, 2002.

3. TransCanada Power Marketing Ltd.

[Docket No. ER98-564-007]

Take notice that on November 21, 2002, TransCanada Power Marketing Ltd. (TCPM) filed with the Federal Energy Regulatory Commission (Commission) a notification of a change in status to reflect certain departures from the facts the Commission relied upon in granting market-based rate authority.

Comment Date: December 12, 2002.

4. Idaho Power Company

[Docket No. ER03-66-001]

Take notice that on November 21, 2002, Idaho Power Company tendered for filing with the Federal Energy Regulatory Commission (Commission) an amendment to its filing in the above-captioned docket.

Comment Date: December 12, 2002.

5. PPL Electric Utilities Corporation

[Docket No. ER03-77-000]

Take notice that on November 21, 2002, PPL Electric Utilities Corporation (PPL Electric Utilities) tendered for filing with the Federal Energy Regulatory Commission (Commission) a notice of withdrawal of its filing made on October 23, 2002, in the above-captioned proceeding.

The notice of the withdrawal has been served on Long Island Lighting Company.

Comment Date: December 12, 2002.

6. PPL Electric Utilities Corporation

[Docket No. ER03-79-000]

Take notice that on November 21, 2002, PPL Electric Utilities Corporation (PPL Electric Utilities) tendered for filing with the Federal Energy Regulatory Commission (Commission) a notice of withdrawal of its October 23, 2002, filing in the above-captioned proceeding.

The notice of the withdrawal has been served on Consolidated Edison Company of New York, Inc.

Comment Date: December 12, 2002.

7. PPL Electric Utilities Corporation

[Docket No. ER03-80-000]

Take notice that on November 21, 2002, PPL Electric Utilities Corporation (PPL Electric Utilities) tendered for filing with the Federal Energy Regulatory Commission (Commission) a notice of withdrawal of its October 23, 2002, filing in the above-captioned proceeding.

The notice of the withdrawal has been served on Electric Clearinghouse, Inc.

Comment Date: December 12, 2002.

8. Termoelectrica US, LLC

[Docket No. ER03-175-001]

Take notice that on November 19, 2002, Termoelectrica US, LLC (Termoelectrica US) filed with the Federal Energy Regulatory Commission (Commission) an errata to its November 12, 2002, filing of a petition for waivers and blanket approvals under various regulations of the Commission and for an order accepting its proposed Rate Schedule FERC No. 1 authorizing Termoelectrica U.S. to make sales at market-based rates. The errata corrects an error in the header of the Rate Schedule.

Termoelectrica U.S. intends to sell electric power and ancillary services at wholesale. In transactions where Termoelectrica U.S. sells electric power or ancillary services it proposed to make such sales on rates, terms, and conditions to be mutually agreed to with the purchasing party. The Rate Schedule provides for the sale of energy and capacity and ancillary services at agreed prices.

Termoelectrica U.S. is requesting an effective date of November 13, 2002.

Comment Date: December 10, 2002.

9. Pacific Gas and Electric Company

[Docket No. ER03-198-000]

Take notice that on November 20, 2002, Pacific Gas and Electric Company (PG&E) tendered for filing with the Federal Energy Regulatory Commission (Commission) a petition requesting clarification that PG&E is authorized to make wholesale power sales outside the California Power Exchange at market-based rates by granting certain waivers and accepting for filing a proposed tariff governing sales of electric capacity, energy and certain ancillary services at market-based rates in the Western Interconnection pursuant to section 205 of the Federal Power Act.

Comment Date: December 11, 2002.

10. New York Independent System Operator, Inc.

[Docket No. ER03-200-000]

Take notice that on November 18, 2002, the New York Independent System Operator, Inc. (NYISO) filed a new attachment V of its Open Access Transmission Tariff (OATT) regarding the ISO's Working Capital Fund. The NYISO has requested an effective date of January 17, 2003 for the filing.

The NYISO has served a copy of this filing upon all parties that have executed service agreements under the NYISO's Open Access Transmission Tariff or the Market Administration and Control Area Services Tariff and upon the New York State Public Service Commission.

Comment Date: December 9, 2002.

11. EnCana Energy Services Inc.

[Docket No. ER03-201-000]

Take notice that on November 21, 2002, EnCana Energy Services Inc. tendered for filing with the Federal Energy Regulatory Commission (Commission) a notice of cancellation of its market based rate tariff, Rate Schedule FERC No. 1.

Comment Date: December 12, 2002.

12. New England Power Pool

[Docket No. ER03-202-000]

Take notice that on November 21, 2002, the New England Power Pool (NEPOOL) Participants Committee submitted a filing that contains a weekly billing agreement between NEPOOL, ISO New England Inc. and NRG Power Marketing Inc., on behalf of itself and several affiliates (collectively, the NRG Participants). The filing reflects billing arrangements for the NRG Participants that are being followed by ISO New England Inc. as NEPOOL's billing agent on and after November 15, 2002, the date that the agreement was executed.

The Participants Committee states that copies of this filing were sent to the NEPOOL Participants and the New England state governors and regulatory commissions.

Comment Date: December 12, 2002.

13. Wisconsin Public Service Corporation

[Docket No. ER03-203-000]

Take notice that on November 21, 2002, Wisconsin Public Service Corporation (WPSC) tendered for filing with the Federal Energy Regulatory Commission (Commission) a notice of cancellation of its T-1 tariff for transmission service, FERC Electric Tariff, Original Volume No. 4. In conformity with Order No. 614, WPSC also tendered a cancelled tariff sheet.

WPSC respectfully requests that the Commission accept its filing and allow the cancellation to become effective as of November 22, 2002, the day after filing.

A copy of the filing was served upon the Public Service Commission of Wisconsin and the Michigan Public Service Commission.

Comment Date: December 12, 2002.

14. Southwest Power Pool, Inc.

[Docket No. ER03-204-000]

Take notice that on November 21, 2002, Southwest Power Pool, Inc. (SPP) submitted for filing an executed service agreement for Firm Point-to-Point Transmission Service with Western Resources d.b.a. Westar Energy (Transmission Customer). SPP seeks an effective date of November 1, 2002 for this service agreement.

The Transmission Customer was served with a copy of this filing.

Comment Date: December 12, 2002.

15. CES Marketing, LLC

[Docket No. ER03-205-000]

Take notice that on November 21, 2002, CES Marketing, LLC tendered for filing, under section 205 of the Federal Power Act (FPA), a request for authorization to make wholesale sales of electric energy, capacity, replacement reserves, and ancillary services at market-based rates, to reassign transmission capacity, and to resell firm transmission rights.

Comment Date: December 12, 2002.

16. CES Marketing II, LLC

[Docket No. ER03-206-000]

Take notice that on November 21, 2002, CES Marketing II, LLC tendered for filing, under section 205 of the Federal Power Act (FPA), a request for authorization to make wholesale sales of electric energy, capacity, replacement reserves, and ancillary services at market-based rates, to reassign transmission capacity, and to resell firm transmission rights.

Comment Date: December 12, 2002.

17. CES Marketing III, LLC

[Docket No. ER03-207-000]

Take notice that on November 21, 2002, CES Marketing III, LLC tendered for filing, under section 205 of the Federal Power Act (FPA), a request for authorization to make wholesale sales of electric energy, capacity, replacement reserves, and ancillary services at market-based rates, to reassign transmission capacity, and to resell firm transmission rights.

Comment Date: December 12, 2002.

18. CES Marketing IV, L.P.

[Docket No. ER03-208-000]

Take notice that on November 21, 2002, CES Marketing IV, L.P. tendered for filing, under section 205 of the Federal Power Act (FPA), a request for authorization to make wholesale sales of electric energy, capacity, replacement reserves, and ancillary services at market-based rates, to reassign transmission capacity, and to resell firm transmission rights.

Comment Date: December 12, 2002.

19. CES Marketing V, L.P.

[Docket No. ER03-209-000]

Take notice that on November 21, 2002, CES Marketing V, L.P. tendered for filing, under section 205 of the Federal Power Act (FPA), a request for authorization to make wholesale sales of electric energy, capacity, replacement reserves, and ancillary services at market-based rates, to reassign transmission capacity, and to resell firm transmission rights.

Comment Date: December 12, 2002.

20. New England Power Pool, ISO New England Inc.

[Docket No. ER03-210-000]

Take notice that on November 22, 2002, the New England Power Pool (NEPOOL) Participants Committee submitted for filing the Ninety-Second Agreement Amending New England Power Pool Agreement (Ninety-Second Agreement) which proposes changes to the Restated NEPOOL Agreement to implement Market rule 1, and the Ninety-Third Agreement Amending New England Power Pool Agreement (Ninety-Third Agreement) which proposes changes to the NEPOOL tariff to implement Market rule 1. In the same filing, NEPOOL and ISO New England (ISO-NE) jointly filed amendments to Market rule 1 and its appendices.

The NEPOOL Participants Committee states that copies of these materials were sent to the NEPOOL participants, non-participant transmission customers and the New England state governors and regulatory commissions.

Comment Date: December 13, 2002.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-30560 Filed 11-29-02; 8:45 am]

BILLING CODE 6717-01-P